DEPARTMENT OF ENERGY

[OE Docket No. EA-97-D]

Application To Export Electric Energy; Portland General Electric Company

AGENCY: Office of Electricity Delivery and Energy Reliability, DOE.

ACTION: Notice of Application.

SUMMARY: Portland General Electric Company (PGE) has applied to renew its authority to transmit electric energy from the United States to Canada pursuant to section 202(e) of the Federal Power Act.

DATES: Comments, protests, or motions to intervene must be submitted on or before June 30, 2014.

ADDRESSES: Comments, protests, motions to intervene, or requests for more information should be addressed to: Office of Electricity Delivery and Energy Reliability, Mail Code: OE-20, U.S. Department of Energy, 1000 Independence Avenue SW., Washington, DC 20585-0350. Because of delays in handling conventional mail, it is recommended that documents be transmitted by overnight mail, by electronic mail to Electricity.Exports@hq.doe.gov, or by facsimile to 202-586-8008.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On June 25, 2004, DOE issued Order No. EA-97-C, which authorized PGE to transmit electric energy from the United States to Canada as a power marketer for a 10-year term using existing international transmission facilities. That authority expires on June 25, 2014. On May 09, 2014, PGE filed an application with DOE for renewal of the export authority contained in Order No. EA-97-C for an additional 10-year term. PGE is also requesting expedited treatment of this renewal application and issuance of an Order within 45 days to avoid any lapse in PGE's authority to export electricity to Canada.

In its application, PGE owns electric generating, transmission, and distribution facilities for service to wholesale and retail customers. The electric energy that PGE proposes to export to Canada would not occur if such action would jeopardize PGE's system or the regional system. The existing international transmission facilities to be utilized by PGE have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments on the PGE application to export electric energy to Canada should be clearly marked with OE Docket No. EA-97-D. An additional copy is to be provided directly to Loretta Mabinton, Associate General Counsel, Portland General Electric Company, 121 SW. Salmon Street, 1 WTC 1301, Portland, OR 97204 and to Connie Colter, Risk Management—Power Operations, Portland General Electric Company, 121 SW. Salmon Street, 3 WTC 0306, Portland, OR 97204. A final decision will be made on this application after the environmental impacts have been evaluated pursuant to DOE's National Environmental Policy Act Implementing

Procedures (10 CFR part 1021) and after a determination is made by DOE that the proposed action will not have an adverse impact on the sufficiency of supply or reliability of the U.S. electric power supply system.

Copies of this application will be made available by request to the addresses provided above or by accessing the program Web site at http://energy.gov/node/11845.

Issued in Washington, DC, on May 23, 2014.
Brian Mills,
Director, Permitting and Siting, Office of Electricity Delivery and Energy Reliability.

[FR Doc. 2014-12457 Filed 5-28-14; 8:45 am]

BILLING CODE 6450-01-P